DEPARTMENT OF AGRICULTURE

Forest Service

Mills Creek—Iditarod Trail Hut-to-Hut System Project on the Chugach National Forest, Kenai Peninsula Borough, AK

AGENCY: Forest Service, USDA.

ACTION: Notice of intent to prepare an environmental impact statement.

SUMMARY: The USDA Forest Service will prepare an Environmental Impact Statement (EIS) on a proposal from the Alaska Mountain and Wilderness Alaska Huts (Alaska Huts) to construct a backcountry hut-to-hut system traversing over 28 miles of trail and existing road. Approximately 16 new miles of trail would be constructed with this project. The majority of all components of this project will occur on Chugach National Forest land in the Kenai Peninsula Borough.

DATES: Comments concerning the scope of the analysis must be received by June 6, 2005.

The Draft EIS is expected to be filed with the Environmental Protection Agency (EPA) and to be available for public review during the winter of 2005/2006. At that time, EPA will publish a Notice of Availability of the Draft EIS in the Federal Register. The comment period on the Draft EIS will be 45 days from the date the EPA publishes the Notice of Availability in the Federal Register. The Final EIS is scheduled to be completed in the summer of 2006.

ADDRESSES: Address all comments concerning this notice to the Chugach National Forest, ATTN: Hut-to-Hut, PO Box 390, Seward, AK 99664. E-mail comments may be sent to: comments-alaska-chugach@fs.fed.us [Subject: Hut-to-Hut].

FOR FURTHER INFORMATION CONTACT: Karen Kromrey, Seward Ranger District Public Services Staff, Chugach National Forest, (907) 224-4105.

SUPPLEMENTARY INFORMATION: The information presented in this notice is included to help the reviewer determine if they are interested in or potentially affected by the proposed action.

Background

Over the past seven years the Alaska Mountain and Wilderness Huts Association, a non profit organization, has expressed interest to the Chugach National Forest to establish a remote system of huts for skiing and hiking in the backcountry. Through the development of the Forest Plan a hut-to-hut system was determined to be desirable and incorporated into management area direction. In June 2002 the Chugach National Forest received a formal proposal from the Alaska Mountain and Wilderness Huts Association (Alaska Huts) requesting the issuance of a long term special use permit authorizing them to construct and operate four backcountry huts in the Ptarmigan Lake and Snow River drainage areas on the Kenai Peninsula. The Forest Service reviewed their proposal and through public involvement and the special uses screening process their proposed areas were eliminated from consideration. The Alaska Huts submitted a revised proposal for a hut-to-hut system in the Mills Creek-Johnson Pass Trail-Center Creek areas, also on the Kenai Peninsula. The Forest accepted this proposal in November 2004.

Purpose and Need for Action

The Chugach National Forest Revised Land and Resource Management Plan (RFP) identified Recreational Opportunities, Access and Facilities as one of the major areas of emphasis to be accomplished through implementation of the RFP (RFP pgs 3-1, 3-7 to 3-9). This includes a wide range of diverse, quality, recreational opportunities including the need to better disperse recreational capacity be developing new facilities and trails in response to user demands. In addition, the RFP identified the need to provide recreation opportunities for interpretation and education through a variety of means both on and off the Forest (RFP pgs 3-8 to 3-9).

The purpose and need for this project is to:

1. Provide additional remote recreational use facilities (huts) and trails that would extend the ability of the Kenai Peninsula to accommodate increased recreation use by drawing users away from the established road system, without diminishing the area's natural quality. There is a need to provide more recreational capacity to meet the increase demand for developed recreational facilitates for both summer and winter uses; provide new trails into undeveloped areas on the Kenai Peninsula to encourage recreation use away from the heavy concentrated use areas; and allow longer winter recreation trips to occur.

2. Provide opportunities for interpretation and education as related to forest resources in the Mills Creek, Stormy Pass, Ohio Creek, and Center Creek areas. There is a need to provide backcountry recreation users information, resource interpretation, and education about the histories about the Mills Creek, Stormy Pass, and Center Creek areas. Having overnight campers concentrated at designated huts provides the opportunity to reach users with interpretative and educational messages. In addition, Outfitted and Guided hikes into the huts would provide additional education about the natural resources of the area.

3. Provide a viable, high quality and unique recreation experience. There is a need to provide the permitted operator with a long-term (20-year) permit so the proponent can make the investment and business decisions needed to provide a viable, high quality, and unique recreation experience.

Proposed Action

The Chugach National Forest proposes to allow a permitee to construct a backcountry hut-to-hut system traversing over 28 miles of trail and roads between Mills Creek via Stormy Pass to Johnson Pass to Center Creek and east to Center Creek Pass. There would be approximately 16 miles of new trail constructed with this project. The new trails would be designated non-motorized use year-round. The portion of Johnson Pass Trail that is within the project boundary would remain open to motorized use during the winter season. The four backcountry huts would be strategically placed 5-8 miles apart allowing visitors to travel between huts at a comfortable pace, even in unfavorable weather conditions. Where feasible, each hut would be placed off the main trail system via a spur trail. An emergency shelter is also proposed on Stormy Creek Pass to provide shelter during inclement weather.

The hut facilities would be owned and operated by a third party under special use authorization. Each hut would accommodate a maximum of 20 guests per night. Other facilities associated with each hut would include a heating source for warmth (combination of wood, heating oil or propane); propane for cooking and some lights; solar panel for lighting; toilet facilities (composting and/or pit/vault); communal fire ring; water; grey water system; foot paths; and up to four outbuildings to provide storage for firewood, propane, heating oil, food; sauna; and toilet facilities. In addition, there maybe up to four tent platforms located near the hut to allow outdoor sleeping.

The area immediately surrounding each hut, other facilities, and associated activities is called the Concentrated Use Area (CUA). Each CUA would impact an area approximately 1.5 acres. Efforts would be made to minimize the removal of trees and other vegetation. In addition to the hut related facilities, a helicopter landing site would be needed solely for supply restocking purposes and may affect up to 0.2 acres of vegetation. The helicopter landing site may not be within the CUA.

Operations of all the huts would offer a combination of both full service and self-service accommodations. Full service accommodations include hut keepers on site answering questions and preparing meals at breakfast and dinner times. In addition, beverages and trail lunches would also be provided. Self-service would provide accommodations for hikers to use sleeping areas, pots and pans, cooking utensils, etc. Hikers would be expected to bring their own food and beverages with them. Both systems would require reservations.

All four huts would be re-stocked using a combination of fixed wing and helicopters. The major re-supply events would occur during February, April/May, and October. A maximum of 15 round trip flights per year per hut for re-supply would occur. Each re-supply event would occur over a period of one-two days. Depending on maintenance requirements, an additional six flights per year may be necessary. These flights would need to be approved in advance. Staging areas for re-supply would be Seward Highway milepost 48.8 gravel pit, the Granite Creek gravel pit (MP 62), the Spencer gravel pit along the railroad, and possibly a site near the intersection of Portage Glacier Hwy. and Seward Hwy. Summer supply needs would be hiked, biked, or flown in via fixed wing. Fixed wing flights (using tundra tires or floats) are unrestricted by the RFP and would not entail or necessitate airstrip development.

To protect resources near each hut a Resource Protection Area (RPA) would be identified based on topography and or trail location. The PRA's are designed to protect resources that surround the huts from over use, possible contamination of the water sources, hut user safety, and the back country hut recreation experience. The RPA's also make the management of the area easier for the special use permittee to maintain the area and manage the facilities. Within the RPA's there would be some restrictions that may include the discharge of firearms, use of pack animals, hunting, motorized use, dogs, etc.

Construction of each hut would occur off-site on non-National Forest System lands closer to population centers. One or more of the huts would be constructed from timber harvested off-site from the Forest. Additional helicopter flights of 2-3 days would occur to transport all building materials to each hut site. Up to a 30 foot diameter yurt would be placed at each hut to provide shelter for construction workers. The yurts would be removed once the huts and associated facilities are operational.

Five to six new bridges would be needed on the new trail segments. Each bridge would be approximately 40-60 feet long crossing various streams. This would result in two helicopter trips per bridge to deliver building materials. New trail and bridge construction would be phased in with the construction of the applicable hut the trail is accessing.

Preliminary Issues

Listed below are possible issues that may be related to this project, but are not limited to:

• Impacts to the natural processes of the Mills Creek, Stormy Pass, Ohio Creek, and Center Creek areas (Center Creek Valley and Pass).

• Impacts to the mountain goats and Dall sheep.

• Avalanche dangers to winter recreation users and hut facilities.

• Impacts to anadromous streams in the project area.

• Impacts to visual due to placement of developed facilities in the backcountry.

• Conflicts with other recreation users and changes in recreation experience at hut locations.

Responsible Official

The Forest Supervisor, Chugach National Forest, is the Responsible Official. The address is Chugach National Forest Supervisor's Office, 3301 C Street, Anchorage, AK 99503.

Nature of Decision To Be Made

The Forest Supervisor, as Responsible Official, may decide to: (1) Select the proposed action, (2) select one of the alternatives, (3) select one of the alternatives after modifying the alternative with additional mitigating measures or combinations of activities from other alternatives, or (4) select the no action alternative and take no action at this time.

Comment Requested

The Forest Service would like to know of any issues, concerns, and suggestions you may have about this proposal. Comments should be as fully formed as possible to assist us in the analysis. If you have any questions, or if something is unclear, contact Karen Kromrey at 907.224.4105 before submitting your comments. Although comments are welcome at any time, they will be most effective if received by June 6, 2005.

Send comments to: Chugach National Forest, ATTN: Hut-to-Hut, 344 4th Ave., P.O. Box 390, Seward, AK 99664.

Alternately, e-mail your comments to: comments-alaska-chugach@fs.fed.us [Subject: Hut-to-Hut].

Public Meetings

Below are the public meeting dates and locations for our scoping meetings:

May 23, 2005

5 p.m.-8 p.m. UAA-Commons Room 106, Anchorage, AK.

5 p.m.-8 p.m. Edgewater Hotel, 5th & Railroad Ave., Seward, AK 99664.

May 24, 2005

6 p.m.-8 p.m. Moose Pass School, Moose Pass, AK 99631.

7 p.m.-9 p.m. Community Hall, Girdwood, AK 99587.

May 25, 2005

5 p.m.-8 p.m. Community Hall, Cooper Landing, AK 99572.

June 1, 2005

5 p.m.-8 p.m. Soldotna Sports Center, Soldotna, AK 99669.

Authorization: National Environmental Policy Act of 1969 as amended (42 U.S.C. 4321-4346); Council on Environmental Quality Regulations (40 CFR parts 1500-1508); U.S. Department of Agriculture NEPA Policies and Procedures (7 CFR part 1b).

Reviewer's Obligation: The Forest Service believes, at this early stage, it is important to give reviewers notice of several court rulings related to public participation in the environmental review process. First, reviewers of draft environmental impact statements must structure their participation in the environmental review of the proposal so that it is meaningful and alerts the agency to the reviewer's position and contentions. Vermont Yankee Nuclear Power Corp. v. NRDC, 435 U.S. 519, 553 (1978). Also, environmental objections that could be raised at the draft environmental impact stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wisc. 1980). Because of these court rulings, it is very important that those interested in this proposed action participate by the close of the comment period so that substantive comments and objections are made available to the Forest Service at the time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21).

Dated: April 27, 2005.
Joe L. Meade,
Forest Supervisor, Chugach National Forest.

[FR Doc. 05-8880 Filed 5-4-05; 8:45 am]

BILLING CODE 3410-11-M